DEPARTMENT OF HEALTH AND HUMAN SERVICES

Centers for Medicare & Medicaid Services

42 CFR Part 409

[CMS-1545-CN2]

RIN 0938-AM46

Medicare Program; Prospective Payment System and Consolidated Billing for Skilled Nursing Facilities; Corrections

AGENCY: Centers for Medicare & Medicaid Services (CMS), HHS.

ACTION: Final rule; correction notice.

SUMMARY: This document corrects technical errors that appeared in the August 3, 2007 Federal Register, entitled “Medicare Program; Prospective Payment System and Consolidated Billing for Skilled Nursing Facilities for FY 2008; Final Rule.”

DATES: Effective Date: This correction is effective January 1, 2008.

FOR FURTHER INFORMATION CONTACT: Bill Ullman, (410) 786-5667.

SUPPLEMENTARY INFORMATION:

I. Background

On September 28, 2007, we published a correction notice (FR Doc. E7-18732, 72 FR 55085) to correct a number of technical errors that appeared in the FY 2008 Skilled Nursing Facility Prospective Payment System (SNF PPS) final rule on August 3, 2007 (FR Doc. 07-3784, 72 FR 43412). In this notice, we are correcting certain technical errors in the wage index values, which have been recently identified. Specifically, we have determined that in the process of developing the most recent hospital wage index, an inpatient hospital provider was inadvertently assigned to the wrong Core-Based Statistical Area (CBSA). This provider was incorrectly located in CBSA 16180 (Carson City, NV) instead of CBSA 39900 (Reno-Sparks, NV). Accordingly, we are revising the wage index values for CBSA 16180 Carson City, NV from 0.9353 to the corrected value of 1.0003. Similarly, we are revising the wage index value for CBSA 39900 Reno-Sparks, NV from 1.0959 to the corrected value of 1.0715. As we are revising the entries for only these two particular CBSAs, we are not republishing the lengthy Table 8, “FY 2008 Wage Index for Urban Areas Based on CBSA Labor market Areas,” in its entirety in this notice. We note that the corrected version of this table is available online on the SNF PPS website, at http://www.cms.hhs.gov/SNFPPS/04_WageIndex.asp.

The corrections in this document appear below in the “Correction of Errors” section. The provisions in this correction notice are effective as of January 1, 2008.

II. Correction of Errors

In FR Doc. 07-3784 (72 FR 43412), make the following corrections:

1. On page 43441, in column 3 (“Wage Index”) of Table 8, “Wage Index for Urban Areas Based on CBSA Labor Market Areas”, the entry “0.9353” for CBSA 16180 Carson City, NV is corrected to read “1.0003”.

2. On page 43455, in column 3 (“Wage Index”) of Table 8, “Wage Index for Urban Areas Based on CBSA Labor Market Areas”, the entry “1.0959” for CBSA 39900 Reno-Sparks, NV is corrected to read “1.0715”.

III. Waiver of Proposed Rulemaking

We ordinarily publish a notice of proposed rulemaking in the Federal Register to provide a period for public comment before the provisions of a notice take effect in accordance with section 553(b) of the Administrative Procedure Act (APA) (5 U.S.C. 553(b)). However, we can waive the notice and comment procedure if the Secretary finds, for good cause, that a notice and comment process is impracticable, unnecessary or contrary to the public interest, and incorporates a statement of the finding and the reasons therefore in the notice.

We find for good cause that it is unnecessary to undertake notice and comment rulemaking because this notice merely provides technical corrections to the regulations. We are not making substantive changes to our payment methodologies or policies, but rather, are simply implementing correctly the payment methodologies and policies that we previously proposed, received comment on, and subsequently finalized. The public has already had the opportunity to comment on these payment methodologies and policies, and this correction notice is intended solely to ensure that the FY 2008 SNF PPS final rule accurately reflects them. Therefore, we believe that undertaking further notice and comment procedures to incorporate these corrections into the update notice is unnecessary and contrary to the public interest.

(Catalog of Federal Domestic Assistance Program No. 93.773, Medicare—Hospital Insurance; and Program No. 93.774, Medicare—Supplementary Medical Insurance Program)

Dated: November 19, 2007.
Ann C. Agnew,
Executive Secretary to the Department.

[FR Doc. E7-23219 Filed 11-29-07; 8:45 am]

BILLING CODE 4120-01-P